DEPARTMENT OF AGRICULTURE

Animal and Plant Health Inspection Service

9 CFR Part 2

[Docket No. APHIS-2009-0053]

RIN 0579-AD23

Animal Welfare; Importation of Live Dogs

AGENCY: Animal and Plant Health Inspection Service, USDA.

ACTION: Final rule.

SUMMARY: We are amending the regulations to implement an amendment to the Animal Welfare Act (AWA). The Food, Conservation, and Energy Act of 2008 added a new section to the AWA to restrict the importation of certain live dogs. Consistent with this amendment, this rule prohibits the importation of dogs, with limited exceptions, from any part of the world into the continental United States or Hawaii for purposes of resale, research, or veterinary treatment, unless the dogs are in good health, have received all necessary vaccinations, and are at least 6 months of age. This action is necessary to implement the amendment to the AWA and will help to ensure the welfare of imported dogs.

DATES: Effective date: November 17, 2014.

FOR FURTHER INFORMATION CONTACT: Dr. Gerald Rushin, Veterinary Medical Officer, Animal Care, APHIS, 4700 River Road Unit 84, Riverdale, MD 20737-1236; (301) 851-3740.

SUPPLEMENTARY INFORMATION:

Background

Under the Animal Welfare Act (AWA or the Act, 7 U.S.C. 2131 et seq.), the Secretary of Agriculture is authorized to promulgate standards and other requirements governing the humane handling, care, treatment, and transportation of certain animals by dealers, research facilities, exhibitors, operators of auction sales, and carriers and intermediate handlers. The Secretary has delegated responsibility for administering the AWA to the Administrator of U.S. Department of Agriculture's (USDA) Animal and Plant Health Inspection Service (APHIS). Within APHIS, the responsibility for administering the AWA has been delegated to the Deputy Administrator for Animal Care (AC). Regulations and standards are established under the AWA and are contained in the Code of Federal Regulations (CFR) in 9 CFR parts 1, 2, and 3 (referred to below as the regulations). Part 2 provides administrative requirements and sets forth institutional responsibilities for regulated parties.

The Food, Conservation, and Energy Act of 2008 (Pub. L. 110-246, signed into law on June 18, 2008) added a new section 18 to the Animal Welfare Act (7 U.S.C. 2148) to restrict the importation of certain live dogs. As amended, the AWA now prohibits the importation of dogs into the United States for resale purposes, unless the Secretary determines that the dogs are in good health, have received all necessary vaccinations, and are at least 6 months of age. Section 18 of the AWA includes a scoping definition for the term “resale.” When read in context of the requirements of that section, the term “resale” includes, but is not limited to, any transfer of ownership or control of imported dogs to another person, for more than de minimis consideration. The AWA further provides that the Secretary, by regulation, must provide an exception to these requirements in any case in which a dog is imported for research purposes or veterinary treatment. The AWA also provides an exception to the at least 6-month age requirement for dogs that are lawfully imported into Hawaii from the British Isles, Australia, Guam, or New Zealand in compliance with the applicable regulations of Hawaii, provided the dogs are not transported out of Hawaii for purposes of resale at less than 6 months of age.

The AWA provides that any importer who fails to comply with these provisions is subject to penalties under 7 U.S.C. 2149 and must provide for the care (including appropriate veterinary care), forfeiture, and adoption of each applicable dog, at his or her expense.

On September 1, 2011, we published in the Federal Register (76 FR 54392-54397, Docket No. APHIS-2009-0053) a proposed rule ¹ to add requirements concerning the importation of certain live dogs as required by the Food, Conservation, and Energy Act of 2008.

¹ To view the proposed rule and the comments we received, go to http://www.regulations.gov/#!docketDetail;D=APHIS-2009-0053.

We proposed, with limited exceptions, to prohibit the importation of any dog for resale, veterinary treatment, or research ² unless the dog is in good health; has received vaccinations for rabies and distemper, hepatitis, leptospirosis, parvovirus, and parainfluenza virus (DHLPP); and is at least 6 months of age. We proposed to require that the dog be accompanied by an import permit issued by APHIS and a health certificate and rabies vaccination certificate issued by a veterinarian with a valid license to practice veterinary medicine in the country of export. We proposed to allow exceptions to health, vaccination, and age requirements for dogs imported for veterinary treatment that cannot be obtained in the exporting country and for dogs imported for use in research, tests, or experiments if the requirement would interfere with a research protocol approved by the research facility's Institutional Animal Care and Use Committee (IACUC). Additionally, we proposed that dogs less than 6 months old could be lawfully imported into Hawaii from the British Isles, Australia, Guam, or New Zealand as long as the dog was not transported from Hawaii for resale purposes at less than 6 months of age.

² Under the AWA, as amended, dogs imported for resale include dogs imported for the purpose of transferring ownership or control to a research facility or to a veterinarian for veterinary treatment. However, because research and veterinary treatment are not commonly considered resale purposes, we separately identify each of these activities as context requires.

We solicited comments for 60 days ending October 31, 2011. We received a total of 74,218 comments. These included 382 unique comments from animal welfare associations, private breeders, veterinarians, foreign exporters, domestic importers, and other individuals. Two animal welfare associations mailed an additional 73,836 comments that had been submitted directly to them. Issues raised by the commenters are discussed by topic below.

Applicability of the Rule

Several commenters asked that we define the term “resale” in the regulations to clarify which imports are subject to the new restrictions regarding dogs imported for resale.

As used in section 18 of the AWA, the term “dogs imported for resale” includes dogs imported for sale in wholesale channels, at retail, and for adoption after arrival in the United States, as well as dogs imported for other purposes involving transfer of ownership or control of the dog to another person for more than de minimis consideration after the dog's arrival in the United States. With limited exceptions for dogs lawfully imported into Hawaii, and for dogs imported for veterinary treatment or research, the restrictions regarding health, vaccinations, and age apply to all such imported dogs.

Many of the comments submitted through an animal welfare association and some others supported the proposed rule with an exception for imports for rescue purposes. They said the rule should not prevent puppies rescued from disasters, neglect, or foreign puppy mills in foreign countries from being imported into the United States for adoption. Some said that the adoption fee charged by many nonprofit rescue groups should be viewed as de minimis consideration under the rule. A number of other commenters stated that the rule should apply to dogs imported as “rescues” as these dogs are often in poor health and present a risk of transmitting diseases to dogs in the United States.

The AWA does not provide for exceptions to age, vaccination, or health requirements for dogs rescued in foreign countries and brought into the United States for subsequent placement. We consider de minimis to have the standard dictionary meaning, which, according to Merriam-Webster, is “lacking significance or importance; so minor as to merit disregard.” Similarly, we consider “consideration” to have the standard dictionary meaning, which is defined by Merriam-Webster as “the inducement to a contract or other legal transaction; specifically: An act or forbearance or the promise thereof done or given by one party in return for the act or promise of another.” While we recognize that adoption fees charged by some nonprofits may not recover all of the costs incurred by the organization to rescue and care for the dog prior to adoption, we do not consider the fee to be de minimis consideration. The rule does not, therefore, provide a specific exception for rescue dogs.

Many commenters were concerned that this rule would prohibit the importation of dogs less than 6 months of age for personal use, including as pets, for sport, for shows or competitions, or for breeding. One commenter said the proposal did not take into account dogs imported for semen collection. A number of other commenters expressed concern that the rule would prohibit them from importing puppies into training programs for working dogs, including dogs to be used as service dogs, for search and rescue, or for police work.

This rule does not apply when there is no transfer of ownership or control of a dog to another person for more than de minimis consideration after the dog's importation into the United States. Therefore, dogs imported by a person who will use the dog as a personal pet, for sport, for shows or competitions, or for breeding or semen collection are not subject to the 6-month age restriction or any other requirements of this rule. Additionally, we do not consider dogs imported for training as working dogs to be imported for purposes of resale. Thus, the rule will not apply to puppies imported by legitimate training organizations for the purpose of training the dog to be a working dog.

All dogs imported into the United States may, however, be subject to other laws and regulations. For example, dogs imported from regions of the world where screwworm is considered to exist must meet requirements in 9 CFR part 93, § 93.600, to ensure their freedom from screwworm, and dogs imported from any part of the world except Canada, Mexico, and regions of Central America and the West Indies that are to be used in the handling of livestock must meet requirements in § 93.600 to mitigate the risk of tapeworm. In addition, the Centers for Disease Control and Prevention (CDC) have requirements for importing dogs that must be met for a dog to be cleared for entry into the United States. These requirements may include a rabies vaccination certificate or a confinement agreement if a dog is too young to receive the rabies vaccine.

A few commenters expressed concern about whether a dog imported for personal use or into a working dog training program and did not work out in the home or program could be placed elsewhere without violating the regulations. Some asked whether a dog had to be kept for any specific length of time before it could be rehomed.

This rule does not require that such dogs be kept for any specific length of time before ownership or control may be transferred, including through sale. APHIS understands that dogs imported in good faith for personal use or special training programs sometimes do not meet the needs for which they were imported and have to be placed elsewhere. We will still consider the dogs to have been imported for personal use or training. However, we expect such transfers of ownership or control, particularly relatively close to the time of importation, will be infrequent. If we have reason to believe that dogs were imported into the continental United States or Hawaii for resale without import permits or without meeting other requirements of the regulations, we may initiate an investigation to ascertain the purpose of the importation and whether there may have been a violation of the regulations.

A few commenters asked if this rule applies to U.S. territories. They expressed concern that an importer could bring dogs into a U.S. territory for subsequent resale elsewhere in the United States. One commenter asked whether the rule will affect persons in Puerto Rico who sell puppies to the U.S. mainland.

This rule applies to dogs imported into the continental United States and Hawaii from any other location, including Puerto Rico and any of the other U.S. territories (American Samoa, the Federated States of Micronesia, Guam, the Midway Islands, the Northern Mariana Islands, the Republic of Palau, the Republic of the Marshall Islands, and the U.S. Virgin Islands). Thus, while an importer may bring a dog into a U.S. territory for resale, research, or veterinary treatment without the dog meeting the requirements of this rule, dogs originating in a foreign country or any U.S. territory may not be shipped from a U.S. territory into the continental United States or Hawaii for any of those purposes except as provided in this rule. Any person intending to import such a dog into the continental United States or Hawaii, or his or her agent, must present the required import permit and any applicable certifications and veterinary treatment agreement required by this rule to the collector of customs at the port of first arrival.

One commenter asked whether the regulations apply to dogs labeled “wild animal.”

The AWA regulations in 9 CFR part 1 define “dog” to mean any dog of the species Canis familiaris (C. familiaris) or any dog-hybrid cross. Therefore, this rule applies to any dog of the species C. familiaris or any dog-hybrid cross. Any such dog that is imported for purposes of resale, research, or veterinary treatment, even if labeled “wild animal,” will be subject to the regulations.

Some commenters stated that there should be no exceptions to the 6-month age requirement and that it should be applicable to all imported dogs.

Section 18 of the AWA applies only to live dogs imported for resale, veterinary treatment, or research. It specifically provides an exception to the age requirement for certain dogs legally imported into Hawaii, provided the dogs are not transported from Hawaii for resale purposes at less than 6 months of age. It also requires us to provide exceptions to health, vaccination, and age requirements for dogs imported for research purposes or veterinary treatment.

Identification of Dogs

A few commenters suggested that we require microchips or tattoos to ensure that dogs imported under permit are the same ones listed on the import permit.

We proposed to require that dogs imported for resale, veterinary treatment, or research be identified on permit applications, health certificates, and rabies vaccination certificates by breed, sex, age, color, markings, and other identifying information. Other identifying information would include microchip numbers or tattoos if a dog has them, but the rule does not require them. We believe this information is sufficient to verify the identity of dogs presented for importation. This is the same information that CDC requires on rabies vaccination certificates for imported dogs.

One commenter recommended that we require all imported dogs to be microchipped so that we would be able to track the dogs and see where they end up.

APHIS believes that such a requirement is beyond the intent of the AWA, as amended.

Intended Use of Imported Dogs

Some commenters questioned how officials at a port of entry would determine whether imported dogs were intended for resale or personal use. A few expressed concern that dogs imported for personal use, and thus arriving without a permit, might be seized at the port of entry.

Dogs imported for personal use, without transfer of ownership or control after arrival in the United States, are not subject to this rule and will not be refused entry or seized because they arrive without a permit. If APHIS has reason to believe that a person is importing dogs for resale, research, or veterinary treatment without meeting the requirements of this rule, we may initiate an investigation and take appropriate action based on the results of that investigation.

Several commenters expressed concern that entities importing dogs less than 6 months of age for resale could circumvent the new requirements by not providing an import permit and claiming the dogs are for personal use. Commenters suggested a variety of actions to prevent such occurrences, including requiring that dogs be issued identification numbers, which would have to be shown on import permits; requiring the use of transit permits for all imported dogs that would include a statement of purpose of the import; requiring importers to provide a sworn statement that dogs imported without a permit are not for resale; limiting the number of imported dogs of less than 6 months of age that a person may import a year for personal use; and establishing an import notification system that would allow APHIS to notify authorities at the ports of entry that a dog import is expected and having the import documents sent to APHIS upon arrival for verification.

APHIS appreciates the suggestions from commenters on ways to help prevent fraud, and we have considered them all. Requiring dogs imported for resale to have numerical identification and to include the numbers on the permit would not prevent an importer from fraudulently claiming a dog is imported for his or her personal use. Importers wishing to circumvent this rule could also falsify statements of purpose. Similarly, if we limited the number of dogs that could be imported for personal use, either per shipment or per year, importers wishing to circumvent this rule could get around these restrictions, too, by breaking up shipments or importing under different names. Regarding port of entry notifications and APHIS verification of import documents, the rule already requires importers or their agents to present the import permit and other required documents for dogs covered by this rule to the collector of customs at the port of first arrival in the continental United States or Hawaii. Inspectors with U.S. Customs and Border Protection will review the paperwork to ensure the shipment is in compliance with the regulations; there would be no added benefit in sending the paperwork to APHIS for verification. Advance notifications would only provide earlier notice of shipments of dogs already identified as being imported for resale, research, or veterinary treatment.

We are developing guidance for port inspectors to use to identify potentially fraudulent imports and report them to APHIS. If it appears that a person is importing dogs for resale, research, or veterinary treatment without meeting the requirements of this rule, we may initiate an investigation and take appropriate action based on the results of that investigation.

Import Permits

Some commenters suggested that the requirement for an import permit would increase the cost of importation for the importer and exporter as a result of the additional time needed to receive an import permit. The commenters also said that obtaining an import permit could delay a sick dog from receiving medical attention.

We expect that any time-related costs associated with obtaining an import permit will be minimal. There is no charge for the permit itself.

Permit applications must include basic information that should be readily available to the importer: The name and address of the person intending to export the dog; the name and address of the importer; the number of dogs to be imported and their breed, sex, age, color, markings, and other identifying information; the purpose of the importation; the port of embarkation and mode of transportation; the port of entry in the United States; the proposed date of arrival in the continental United States or Hawaii; the name and address of the person who will take delivery of the dogs; and, if the dogs will be used for research, the USDA registration number of the research facility. APHIS anticipates that it will need 7 to 10 days to process a permit application once it is received. Thus, in most cases, dogs can be shipped within 2 weeks of the importer submitting an application for permit. Upon request, APHIS will attempt to expedite permit processing for dogs requiring urgent veterinary medical attention in the United States.

One commenter objected to the proposed requirement that dogs be accompanied by an original import permit. The commenter stated that few original documents are required at ports of entry as systems move to electronic documentation and that requiring a hard copy of the import permit is unnecessary and will only increase the likelihood that imported dogs will be forfeited or returned to their country of export due to missing or erroneous originals. Another commenter stated that we should not require originals of any document to be presented at the port of arrival.

Our rule requires an original health certificate. This requirement will prevent copies of a health certificate from being used for multiple shipments and thus reduce fraud. Our rule does not require an original import permit, and, as explained in the preamble to the proposed rule, we will accept a copy of the rabies vaccination certificate required by the Public Health Service regulations in 42 CFR 71.51.

Vaccinations

A few commenters asked that we clarify the requirement in proposed § 2.151(a)(1)(iv) that dogs be vaccinated in accordance with currently accepted practices as cited in veterinary medicine reference guides. They expressed concern that there may be conflicting consensus on vaccination requirements and practices. One commenter provided a list of reference guides and encouraged us to include them in the regulations.

We acknowledge that there are various accepted vaccination practices cited in veterinary medicine reference guides used in the United States and foreign countries. It is not our intention to specify one or another, which is why we worded the requirement in this way. Rather, we will rely on the veterinarians who are signing the health certificates to make good decisions on behalf of the dog's welfare.

Several commenters stated that our list of required vaccinations is inconsistent with the list provided by American Veterinary Medical Association. They were specifically concerned about our proposed requirements for leptospirosis and parainfluenza vaccination, stating that they are unnecessary and may be harmful. One commenter said that leptospirosis vaccines may cause life threatening reactions in some small breeds of dogs.

Leptospirosis is a bacterium that can cause liver disease, kidney failure, and even death. While leptospirosis is less likely to occur in urban areas of the country, it is still a disease of concern in many areas of the United States. Parainfluenza, also a disease of concern in the United States, is a highly contagious respiratory infection that can lead to pneumonia and even death. Veterinarians routinely administer these vaccinations to dogs to prevent infection and spread of those diseases. Small breed dogs, as well as other breeds, can receive the leptospirosis vaccination, which may need to be administered under the direction and/or supervision of a veterinarian.

Several commenters objected to our proposed requirement for rabies vaccination. One commenter suggested that additional studies be performed to evaluate the source of rabies outbreaks in the United States to analyze the necessity for rabies vaccines prior to importation. Another commenter asked that dogs imported from rabies-free countries be exempt from the rabies certification requirement to decrease the time and cost of importation for those dogs. The commenter also expressed concern that some States may not recognize rabies vaccinations given in other countries.

We consider rabies vaccination necessary not only to ensure that imported dogs do not have rabies, but also to ensure that they are protected from rabies after they arrive in the United States. Rabies exists in the United States, primarily in wildlife such as raccoons, skunks, foxes, and coyotes. It is transmissible, usually through the bite of an infected animal, to other mammals, including humans and unvaccinated dogs. The rabies virus infects the central nervous system, ultimately causing disease in the brain and death. For this reason, the rabies vaccine is one of the core vaccinations given to dogs in the United States as part of a national rabies prevention and control program. It should be noted that the CDC also requires most dogs, regardless of age or purpose of importation, to be accompanied by proof of rabies vaccination or a confinement agreement if a dog is too young to have received a rabies vaccine prior to entry into the United States. If a State does not accept rabies vaccination given in a foreign country, the importer may have several options, including petitioning the State to accept serologic testing of the vaccinated dog as proof of immunological protection or having the dog revaccinated after consultation with his or her veterinarian.

One commenter suggested that we add Bordetella bronchiseptica to the list of required vaccinations.

APHIS believes that the current vaccination protocol provides adequate immunity protection for the health and well-being of dogs imported into the United States for resale. In addition, importers in consultation with their veterinarians can elect to include Bordetella or other vaccines in their dog's vaccination regimen before or after import.

One commenter stated that we overestimated the cost of vaccinations in our economic analysis. The commenter suggested that most commercial breeders purchase vaccines from suppliers and administer the vaccines themselves at a cost of less than $5 per injection.

We acknowledge that this may be the case. Our estimates of the vaccination costs were based on costs of vaccinations performed at veterinary clinics. The economic analysis did state that breeders in the United States typically administer the vaccinations themselves. If the vaccination costs are lower, the overall costs associated with this rule will be lower.

Veterinary Inspection

Several commenters asked if dogs imported for resale, research, or veterinary treatment will be inspected by a veterinarian at the port of entry to verify the age and condition of the animals listed on the health certificate. Several commenters recommended veterinary inspection upon arrival and further recommended that importation of the dogs be limited to certain ports of entry where veterinary inspectors are available and where dogs can receive veterinary care if they arrive in poor health.

Under this rule, dogs imported for resale, veterinary treatment, or research must be examined by a veterinarian licensed in the country of export prior to shipment to the United States. Inspectors with U.S. Customs and Border Protection will check shipments, including health and vaccination certifications for the dogs, upon their arrival in the United States for compliance with this rule. Our rule does not require additional veterinary inspection upon arrival. If officials at the port of entry observe sick or injured dogs in a shipment, they will notify Animal Care, which can arrange for appropriate veterinary care if needed.

Parasites

One commenter stated that our rule should require proof of flea, tick, and parasite treatment prior to importation. In addition, the commenter recommended that dogs found to be infected or sick at the port of entry should be placed in a quarantine facility before returning to the country of origin.

While this rule does not require dogs to be treated for parasites prior to importation, it does require that a veterinarian in the country of export attest on the health certificate that the dog is in good health, which includes freedom from parasitic infections. Dogs that are imported for resale purposes and found to be infested with parasites or to be ill upon arrival are subject to the provisions in § 2.153 of this rule, which include being seized and placed for veterinary care at the importer's expense.

Exceptions for Veterinary Treatment

One commenter stated that our rule should contain requirements for the transportation and housing of dogs imported for veterinary treatment, including a determination that it would not be harmful for a dog to travel.

Under this rule, dogs may be imported for veterinary treatment without meeting all of the age, health, and vaccination requirements only if a licensed veterinarian in the country of export certifies that the dog is in need of veterinary treatment that cannot be obtained in the country of export. Additionally, the importer must have completed a veterinary treatment agreement with Animal Care and confine the dog until the conditions specified in the agreement have been met. Confinement entails maintaining the dog in isolation from other animals and from people other than those necessary to provide for its care. If taken from the building or other enclosure where it is housed, the dog should be leashed. Confinement must continue until all terms of the veterinary treatment agreement are met. These may include determinations by the licensed veterinarian in the United States that the dog is in good health, has been adequately vaccinated against DHLPP and rabies, and is at least 6 months of age.

Regarding the suggestion that we require certification that it would not be harmful for a dog to travel, we believe it would be very difficult for a veterinarian to make such a statement, particularly for a dog in need of veterinary treatment. Rather, we expect that veterinarians who refer a dog to a U.S. veterinarian for treatment will use their professional judgment to weigh the benefits of treatment for the dog in the United States with the risks associated with the dog traveling to the United States before issuing a health certificate for the dog.

One commenter stated that the regulations should prohibit dogs imported for veterinary treatment from being sold after treatment.

As explained above, the regulations provide exceptions to age, health, and vaccination requirements for dogs imported for veterinary treatment only when veterinary treatment for that dog cannot be obtained in the country of export. We anticipate that relatively few dogs will be imported into the United States under these circumstances, as veterinary care for most conditions affecting dogs will be available in the country of export and the costs for importing a dog into the United States for specialized treatment are likely to be quite high. If a dog is imported into the United States under this rule for veterinary care and is maintained in confinement until all conditions of the veterinary treatment agreement are met, the dog may be transferred to another person in the United States through a sale or otherwise.

One commenter said that, as a veterinarian working in foreign countries, he had often referred dogs to U.S. veterinarians for treatment. He expressed concern that this rule could prevent such referrals from being a treatment option.

This rule allows exceptions to be made to age, vaccination, and health requirements for dogs to be imported for veterinary treatment that is not available to the dogs in the foreign country.

One commenter said that the proposed rule did not take into account dogs imported “for dentals, orthopedics, or other procedures.”

We consider these procedures to be veterinary treatment.

Penalties

One commenter suggested that the rule include notice that violators of the rule are subject to penalties under section 19 of the AWA (7 U.S.C. 2149).

The AWA, as amended, provides that any importer that fails to comply with the requirements regarding the importation of live dogs shall be subject to penalties under section 19 and shall be responsible for the care (including appropriate veterinary care), forfeiture, and adoption of each applicable dog, at the expense of the importer. Section 2149 provides for criminal and civil penalties for violations of the AWA, including civil penalties of up to $10,000 for each violation. Any person who violates our regulations will be subject to these penalties. The regulations include a citation to the AWA in the authority citation at the beginning of part 2. We do not believe it is necessary to include the language of the statute in the regulations.

Miscellaneous

One commenter suggested that the estimate of 17,000 dogs imported annually seems low.

This estimate of 17,000 imported dogs is an annual average for 2005 through 2010 from the foreign trade statistics compiled by the U.S. Census Bureau. Since the publication of the proposed rule, the U.S. Census Bureau has released updated foreign trade statistics that state that 8,634 dogs were imported each year between 2009 and 2013. We have revised the regulatory impact analysis to include these updated numbers. This data source contains all shipments brought into the United States with a fair market value of at least $2,000. The CDC estimated that about 287,000 dogs were brought into the United States in 2006. However, this total covers all types of dogs, including companion animals that are not intended for resale. Because this rule primarily covers dogs imported for resale, we focused our cost estimates on the import number reported by the U.S. Census Bureau.

One commenter suggested that these regulations would make the practice of brokerage illegal and put people out of business.

Brokers who import dogs will still be allowed to do so, but they must abide by these regulations to ensure the dogs they are importing for resale are in good health and meet vaccination and age requirements. Brokers who have been dealing exclusively or in large part in puppies under the age of 6 months will be affected by the rule and may have to change their business model.

Several commenters stated that requiring puppies to be at least 6 months of age before they can be imported into the United States will eliminate free commerce, eliminate jobs in the United States, and cause an increase in the cost of puppies for the ultimate buyer.

Those businesses that have been dependent on income related to imported puppies less than 6 months of age for resale will have to change or may go out of business. The rule should have very little effect on competition in the market for dogs, however. While the cost of imported puppies may increase because of the minimum age requirement, the overall effect on competition in the United States should be very small. Imported dogs comprise a very small fraction of the U.S. dog population. The upper-end estimate of 287,000 dogs entering the United States annually (including companion animals in addition to those intended for resale) represents less than four-tenths of one percent of the U.S. dog population. Buyers who want to purchase a dog under 6 months of age will still be able to do so from domestic sources. Domestic breeders and wholesalers are likely to see increased volumes of business, serving customers who currently rely on foreign suppliers. Some current importers are also domestic breeders and will likely shift from sales of imported puppies to sales of puppies bred at their own domestic facilities.

Nonsubstantive Change

We are making a minor editorial change to the language in proposed § 2.153 to make it consistent with the language in the AWA. Specifically, we are removing the words “the cost of” in the phrase “. . . any person intending to import the dog shall provide for the cost of the care . . . at his or her expense.”

Therefore, for the reasons given in the proposed rule and in this document, we are adopting the proposed rule as a final rule, with the change discussed in this document.

Executive Orders 12866 and 13563 and Regulatory Flexibility Act

This final rule has been determined to be significant for the purposes of Executive Order 12866 and, therefore, has been reviewed by the Office of Management and Budget.

We have prepared an economic analysis for this rule. The economic analysis provides a cost-benefit analysis, as required by Executive Orders 12866 and 13563, which direct agencies to assess all costs and benefits of available regulatory alternatives and, if regulation is necessary, to select regulatory approaches that maximize net benefits (including potential economic, environmental, public health and safety effects, and equity). Executive Order 13563 emphasizes the importance of quantifying both costs and benefits, of reducing costs, of harmonizing rules, and of promoting flexibility. The economic analysis also examines the potential economic effects of this rule on small entities, as required by the Regulatory Flexibility Act. The economic analysis is summarized below. Copies of the full analysis are available on the Regulations.gov Web site (see footnote 1 in this document for a link to Regulations.gov) or by contacting the person listed under FOR FURTHER INFORMATION CONTACT.

The analysis examines impacts of a rule that amends the Animal Welfare regulations to prohibit, with certain exceptions, the importation of dogs for purposes of resale, research, or veterinary treatment, unless they are in good health, have all necessary vaccinations, and are 6 months of age or older. The vaccinations are rabies vaccination (which is already required by the CDC for imported dogs in most instances) and DHLPP vaccination. The rule includes limited exceptions for (1) dogs imported for certain research studies or veterinary treatment, and (2) dogs lawfully imported into the State of Hawaii from the British Isles, Australia, Guam, or New Zealand in compliance with applicable regulations of the State of Hawaii, provided the dogs are not transported out of the State of Hawaii for resale at less than 6 months of age.

The rule promotes the humane treatment of certain imported dogs and benefits most U.S. dog importers and dealers by ensuring that these dogs are in good health, vaccinated, and not too young. The benefits of these changes include an unquantifiable enhancement of animal welfare. The benefits also include the avoided costs of a potential disease outbreak. In addition, there could be a positive economic impact for U.S. commercial dog breeding facilities, given that puppies currently imported at less than 6 months of age compete for the same market, but at lower prices. The only entities that may be adversely affected are those that currently import dogs, or purchase imported dogs, that do not meet the new requirements. There may be a reduction in importers' volume of business, to the extent to which the importation of dogs that are 6 months of age or older does not replace the importation of younger dogs. APHIS does not have information about the demand for imported dogs that are younger than 6 months compared to the demand for older imported dogs. Buyers who want to purchase a dog under 6 months will still be able to do so from domestic sources. Domestic breeders and wholesalers are likely to see increased volumes of business, serving customers who currently rely on foreign suppliers. Some current importers are also domestic breeders and will likely shift from sales of imported puppies to sales of puppies bred at their own domestic facilities.

The requirements of this rule may mean additional costs related to vaccines, veterinary care, and paperwork for some entities. The cost of a complete series of rabies and DHLPP vaccinations can range between $60 and $124 per dog. Veterinary care and vaccinations are regular responsibilities of owning a companion animal in the United States and these requirements of the rule are therefore normal for the care of a dog.

Importers will face increased vaccination and care costs abroad, unless they already vaccinate or they qualify for the narrow exceptions for dogs imported for certain research studies or veterinary treatment. We note that while this rule specifies that dogs imported for resale must be vaccinated against rabies prior to entry into the United States, rabies vaccinations are already required by CDC for dogs imported into the United States but may occur either before or after arrival under those rules. Therefore, most of the additional vaccination costs associated with this rule are likely to fall on those importers that do not already provide DHLPP vaccinations prior to entry. Assuming that all imported dogs need both rabies and DHLPP vaccinations, and all are at least 6 months of age, the total cost of providing the DHLPP vaccinations for imported dogs could range from $518,000 to $1.07 million annually, based on the average number of dogs imported from 2009 through 2013, as recorded in the U.S. Census Bureau's foreign trade statistics. Although DHLPP vaccination is expected to represent the single largest cost of the rule (there may be costs to obtaining a health certificate as well), APHIS believes that many imported dogs already receive this vaccination prior to entry. Dogs imported for resale are covered in U.S. Census Bureau statistics. However, these statistics may understate the total number of dogs affected by the rule, particularly since they do not include shipments with a fair market value of less than $2,000.

Any increase in costs for importers may be wholly or partially passed on to entities buying the imported dogs. On the other hand, such entities may be positively affected due to the greater assurance that an imported dog is in good health and of legal minimum age.

The Small Business Administration (SBA) has established guidelines for determining firms considered to be small under the Regulatory Flexibility Act. Importers of live dogs for resale, research, and veterinary treatment will be directly affected by this rule. While the exact number and size of affected entities is not known, in 2007 there were about 12,600 establishments in the generalized category of “other miscellaneous nondurable goods merchant wholesalers” (NAICS 424990), which includes importers of dogs, and about 99 percent of those establishments were considered small in 2007.³

³ U.S. Department of Commerce, Census Bureau, 2007 Economic Census.

Theoretically, any change in the number of imported dogs into the United States could affect the demand for foreign veterinary services and domestic veterinary services, dog products and dog food. However, we expect that any impact of the rule on these industries will be negligible. Imported dogs comprise a very small fraction of the U.S. dog population, well under 1 percent. It is therefore highly unlikely that any change because of this rule in the number of imported dogs will significantly affect those domestic markets.

We believe that the benefits of this rule, including the unquantifiable enhancement of animal welfare, justify the costs. Benefits of the rule include promoting the humane treatment of covered imported dogs in keeping with the requirements of the Animal Welfare Act and with standard health practices for dogs in the United States. The rule could also yield benefits in preventing the spread of communicable diseases by unvaccinated, imported dogs to other dogs or humans in the United States.

Executive Order 12988

This final rule has been reviewed under Executive Order 12988, Civil Justice Reform. It is not intended to have retroactive effect. The Act does not provide administrative procedures which must be exhausted prior to a judicial challenge to the provisions of this rule.

Paperwork Reduction Act

In accordance with section 3507(d) of the Paperwork Reduction Act of 1995 (44 U.S.C. 3501 et seq.), the information collection or recordkeeping requirements included in this final rule, which were filed under 0579-0379, have been submitted for approval to the Office of Management and Budget (OMB). When OMB notifies us of its decision, if approval is denied, we will publish a document in the Federal Register providing notice of what action we plan to take.

E-Government Act Compliance

The Animal and Plant Health Inspection Service is committed to compliance with the E-Government Act to promote the use of the Internet and other information technologies, to provide increased opportunities for citizen access to Government information and services, and for other purposes. For information pertinent to E-Government Act compliance related to this rule, please contact Mrs. Celeste Sickles, APHIS' Information Collection Coordinator, at (301) 851-2908.

List of Subjects in 9 CFR Part 2

Animal welfare, Pets, Reporting and recordkeeping requirements, Research.

Accordingly, we are amending 9 CFR part 2 as follows:

PART 2—REGULATIONS

1. The authority citation for part 2 continues to read as follows:

Authority: 7 U.S.C. 2131-2159; 7 CFR 2.22, 2.80, and 371.7.

2. Subpart J, consisting of §§ 2.150 through 2.153, is added to read as follows:

Subpart J—Importation of Live Dogs
Sec.
2.150 Import permit.
2.151 Certifications.
2.152 Notification of arrival.
2.153 Dogs refused entry.

Subpart J—Importation of Live Dogs

§ 2.150 Import permit.

(a) No person shall import a live dog from any part of the world into the continental United States or Hawaii for purposes of resale, research, or veterinary treatment unless the dog is accompanied by an import permit issued by APHIS and is imported into the continental United States or Hawaii within 30 days after the proposed date of arrival stated in the import permit.

(b) An application for an import permit must be submitted to the Animal and Plant Health Inspection Service, Animal Care, 4700 River Road Unit 84, Riverdale, MD 20737-1234 or though Animal Care's Web site (http://www.aphis.usda.gov/animal_welfare/). Application forms for import permits may be obtained from Animal Care at the address listed above.

(c) The completed application must include the following information:

(1) The name and address of the person intending to export the dog(s) to the continental United States or Hawaii;

(2) The name and address of the person intending to import the dog(s) into the continental United States or Hawaii;

(3) The number of dogs to be imported and the breed, sex, age, color, markings, and other identifying information of each dog;

(4) The purpose of the importation;

(5) The port of embarkation and the mode of transportation;

(6) The port of entry in the United States;

(7) The proposed date of arrival in the continental United States or Hawaii; and

(8) The name and address of the person to whom the dog(s) will be delivered in the continental United States or Hawaii and, if the dog(s) is or are imported for research purposes, the USDA registration number of the research facility where the dog will be used for research, tests, or experiments.

(d) After receipt and review of the application by APHIS, an import permit indicating the applicable conditions for importation under this subpart may be issued for the importation of the dog(s) described in the application if such dog(s) appears to be eligible to be imported. Even though an import permit has been issued for the importation of a dog, the dog may only be imported if all applicable requirements of this subpart and any other applicable regulations of this subchapter and any other statute or regulation of any State or of the United States are met.

(Approved by the Office of Management and Budget under control number 0579-0379)

§ 2.151 Certifications.

(a) Required certificates. Except as provided in paragraph (b) of this section, no person shall import a live dog from any part of the world into the continental United States or Hawaii for purposes of resale, research, or veterinary treatment unless the following conditions are met:

(1) Health certificate. Each dog is accompanied by an original health certificate issued in English by a licensed veterinarian with a valid license to practice veterinary medicine in the country of export that:

(i) Specifies the name and address of the person intending to import the dog into the continental United States or Hawaii;

(ii) Identifies the dog on the basis of breed, sex, age, color, markings, and other identifying information;

(iii) States that the dog is at least 6 months of age;

(iv) States that the dog was vaccinated, not more than 12 months before the date of arrival at the U.S. port, for distemper, hepatitis, leptospirosis, parvovirus, and parainfluenza virus (DHLPP) at a frequency that provides continuous protection of the dog from those diseases and is in accordance with currently accepted practices as cited in veterinary medicine reference guides;

(v) States that the dog is in good health (i.e., free of any infectious disease or physical abnormality which would endanger the dog or other animals or endanger public health, including, but not limited to, parasitic infection, emaciation, lesions of the skin, nervous system disturbances, jaundice, or diarrhea); and

(vi) Bears the signature and the license number of the veterinarian issuing the certificate.

(2) Rabies vaccination certificate. Each dog is accompanied by a valid rabies vaccination certificate ⁶ that was issued in English by a licensed veterinarian with a valid license to practice veterinary medicine in the country of export for the dog not less than 3 months of age at the time of vaccination that:

⁶ Alternatively, this requirement can be met by providing an exact copy of the rabies vaccination certificate if so required under the Public Health Service regulations in 42 CFR 71.51.

(i) Specifies the name and address of the person intending to import the dog into the continental United States or Hawaii;

(ii) Identifies the dog on the basis of breed, sex, age, color, markings, and other identifying information;

(iii) Specifies a date of rabies vaccination at least 30 days before the date of arrival of the dog at a U.S. port;

(iv) Specifies a date of expiration of the vaccination which is after the date of arrival of the dog at a U.S. port. If no date of expiration is specified, then the date of vaccination shall be no more than 12 months before the date of arrival at a U.S. port; and

(v) Bears the signature and the license number of the veterinarian issuing the certificate.

(b) Exceptions. (1) Research. The provisions of paragraphs (a)(1)(iii), (a)(1)(iv), (a)(1)(v), and/or (a)(2) of this section do not apply to any person who imports a live dog from any part of the world into the continental United States or Hawaii for use in research, tests, or experiments at a research facility, provided that: Such person submits satisfactory evidence to Animal Care at the time of his or her application for an import permit that the specific provision(s) would interfere with the dog's use in such research, tests, or experiments in accordance with a research proposal and the proposal has been approved by the research facility IACUC.

(2) Veterinary care. The provisions of paragraphs (a)(1)(iii) through (a)(1)(v) and (a)(2) of this section do not apply to any person who imports a live dog from any part of the world into the continental United States or Hawaii for veterinary treatment by a licensed veterinarian, provided that:

(i) The original health certificate required in paragraph (a)(1) of this section states that the dog is in need of veterinary treatment that cannot be obtained in the country of export and states the name and address of the licensed veterinarian in the United States who intends to provide the dog such veterinary treatment; and

(ii) The person who imports the dog completes a veterinary treatment agreement with Animal Care at the time of application for an import permit and confines the animal until the conditions specified in the agreement are met. Such conditions may include determinations by the licensed veterinarian in the United States that the dog is in good health, has been adequately vaccinated against DHLPP and rabies, and is at least 6 months of age. The person importing the dog shall bear the expense of veterinary treatment and confinement.

(3) Dogs imported into Hawaii from the British Isles, Australia, Guam, or New Zealand. The provisions of paragraph (a)(1)(iii) of this section do not apply to any person who lawfully imports a live dog into the State of Hawaii from the British Isles, Australia, Guam, or New Zealand in compliance with the applicable regulations of the State of Hawaii, provided that the dog is not transported out of the State of Hawaii for purposes of resale at less than 6 months of age.

(Approved by the Office of Management and Budget under control number 0579-0379)

§ 2.152 Notification of arrival.

Upon the arrival of a dog at the port of first arrival in the continental United States or Hawaii, the person intending to import the dog, or his or her agent, must present the import permit and any applicable certifications and veterinary treatment agreement required by this subpart to the collector of customs for use at that port.

§ 2.153 Dogs refused entry.

Any dog refused entry into the continental United States or Hawaii for noncompliance with the requirements of this subpart may be removed from the continental United States or Hawaii or may be seized and the person intending to import the dog shall provide for the care (including appropriate veterinary care), forfeiture, and adoption of the dog, at his or her expense.

Done in Washington, DC, this 12th day of August 2014.
Gary Woodward,
Deputy Under Secretary for Marketing and Regulatory Programs.

[FR Doc. 2014-19515 Filed 8-15-14; 8:45 am]

BILLING CODE 3410-34-P